DEPARTMENT OF THE INTERIOR

Bureau of Indian Affairs

Land Acquisitions; Osage Nation of Oklahoma

AGENCY: Bureau of Indian Affairs, Interior.

ACTION: Notice of final agency determination.

SUMMARY: The Assistant Secretary—Indian Affairs made a final agency determination to acquire approximately 15 acres of land, known as “OMDE Ponca City,” into trust for the Osage Nation of Oklahoma on July 8, 2011.

FOR FURTHER INFORMATION CONTACT: Paula L. Hart, Director, Office of Indian Gaming, Bureau of Indian Affairs, MS-3657 MIB, 1849 C Street, NW., Washington, DC 20240; Telephone (202) 219-4066.

SUPPLEMENTARY INFORMATION: This notice is published in the exercise of authority delegated by the Secretary of the Interior to the Assistant Secretary—Indian Affairs by 209 Departmental Manual 8.1 and is published to comply with the requirements of 25 CFR 151.12(b) that notice be given to the public of the Secretary's decision to acquire land in trust at least 30 days prior to signatory acceptance of the land into trust. The purpose of the 30-day waiting period in 25 CFR 151.12(b) is to afford interested parties the opportunity to seek judicial review of final administrative decisions to take land in trust for Indian tribes and individual Indians before transfer of title to the property occurs. On July 8, 2011, the Assistant Secretary—Indian Affairs decided to accept approximately 15 acres of land into trust for the Osage Nation of Oklahoma under the authority of the Indian Reorganization Act of 1934, 25 U.S.C. 465.

The 15 acres are located in Osage County, Oklahoma and described as follows:

A tract of land lying in the South Half of the Southwest Quarter (SW/4) of Section Thirty-six (36), Township Twenty-six (26) North, Range Two (2) East of the Indian Meridian, described as beginning at a point Twenty-five (25) feet West of the Southeast corner of the South Half of said Southwest Quarter (SW/4), thence North along the West line of the roadway theretofore granted to Osage County, Oklahoma, a distance of 808 feet, thence West 808 feet; thence South 808 feet; thence East along the South line of said South half of the Southwest Quarter (SW/4) distance of 808 feet to the place of beginning (together with the perpetual right of ingress and egress over and across the 25 foot strip of ground adjoining on the East and now used as a public road under recorded easement held by Osage County), less and except the portion of property deeded to the State of Oklahoma as described in the deed recorded in Warranty Deed Book 106, Page 631, Osage County.

Dated: July 8, 2011.
Larry Echo Hawk,
Assistant Secretary, Indian Affairs.

[FR Doc. 2011-18076 Filed 7-18-11; 8:45 am]

BILLING CODE 4310-04-P